DEPARTMENT OF COMMERCE

National Oceanic and Atmospheric Administration

Proposed Information Collection; Comment Request; Marine Technology and Services Enterprise Impact and Utilization Survey Sponsored by the U.S. Integrated Ocean Observing System

AGENCY: National Oceanic and Atmospheric Administration, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before November 17, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Carl Gouldman, (301) 427-2435 or carl.gouldman@noaa.gov.

SUPPLEMENTARY INFORMATION:

I. Abstract

This request is for a new information collection supported by Section 12302 (3) of the Integrated Coastal and Ocean Observation System Act (ICOOS Act) part of the Omnibus Public Land Management Act of 2009 (Pub. L. 111-11). The survey is voluntary.

NOAA's National Ocean Service is requesting approval of a Web-based survey of employers who provide either services or infrastructure to the Integrated Ocean Observing System (IOOS) or organizations that add value to the IOOS data and other outputs by tailoring them for specific end uses. The purpose of the survey and overall project is to gather data to articulate the collective and derived value of the IOOS enterprise, and to create a profile of businesses and organizations who are involved with providing services or utilizing the data for other specific end uses. This is the first survey of its kind on a national scale. The project is funded by NOAA and is being conducted on its behalf by the contractor, ERISS Corporation. The project contract spans three years with the first portion of the contract mainly involved with researching and selecting appropriate businesses to include in the study database. The web survey will be the final data collection piece of the project and is necessary in order to collect demographic, financial, and functional information for each organization with regards to their involvement with IOOS. The final deliverable of this project is an analytic report detailing the findings of the web survey and the analysis of the employer database.

The marine technology industry is an important partner and stakeholder within IOOS; however, without the baseline that this study will provide, IOOS is unable to articulate its collective and derived value. The results will demonstrate the size and economic impact of IOOS data to the United States marine ocean sector. That information can be used to understand the value of export sales and the identification of potential growth and/or new international markets which would further the Department of Commerce (DOC) strategic goal for better environment intelligence and translate into better programs by the DOC International Trade Administration in ocean observing industries in international trade.

II. Method of Collection

The method of data collection is through a Web (Internet) delivered survey.

III. Data

OMB Control Number: 0648-XXXX.

Form Number: None.

Type of Review: Regular submission (request for a new information collection).

Affected Public: Business or other for-profit organizations.

Estimated Number of Respondents: 300.

Estimated Time per Response: 25 minutes.

Estimated Total Annual Burden Hours: 125.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: September 10, 2014.
Gwellnar Banks,
Management Analyst, Office of the Chief Information Officer.

[FR Doc. 2014-22007 Filed 9-15-14; 8:45 am]

BILLING CODE 3510-JE-P